THE BUREAU OF CONSUMER FINANCIAL PROTECTION

[Docket No. CFPB-2012-0008]

Privacy Act of 1974, as Amended

AGENCY: Bureau of Consumer Financial Protection.

ACTION: Notice of Proposed Privacy Act System of Records.

SUMMARY: In accordance with the Privacy Act of 1974, as amended, the Bureau of Consumer Financial Protection (“CFPB” or the “Bureau”) gives notice of the establishment of a Privacy Act System of Records.

DATES: Comments must be received no later than March 29, 2012. The new system of records will be effective April 9, 2012, unless the comments received result in a contrary determination.

ADDRESSES: You may submit comments, identified by Docket No. CFPB-2012-0008, by any of the following methods:

• Electronic: http://www.regulations.gov. Follow the instructions for submitting comments.

• Mail or Hand Delivery/Courier in Lieu of Mail: Claire Stapleton, Chief Privacy Officer, Consumer Financial Protection Bureau, 1700 G Street NW., Washington, DC 20552.

All submissions must include the agency name and docket number for this notice. In general all comments received will be posted without change to http://www.regulations.gov. In addition, comments will be available for public inspection and copying at 1700 G Street NW., Washington, DC 20552, on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G Street NW., Washington, DC 20552, (202) 435-7220.

SUPPLEMENTARY INFORMATION: The Dodd-Frank Wall Street Reform and Consumer Protection Act (“Act”), Public Law 111-203, Title X, established the CFPB to administer and enforce federal consumer financial protection law. Section 1014 of the Act requires the Director of the CBPB to establish a Consumer Advisory Board (CAB) to advise and consult with the Bureau in the exercise of its functions under the Federal consumer financial laws, and to provide information on emerging practices in the consumer financial products or services industry, including regional trends, concerns, and other relevant information. The CFPB anticipates that it may establish additional advisory boards, groups, or committees in the future to advise and consult with the Bureau in the exercise of its functions.

The new system of records described in this notice “CFPB.016-CFPB Advisory Boards and Committees” will maintain records concerning the activities and operations of the CFPB's Advisory Boards and Committees, including the CAB.

The report of the new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The system of records entitled “CFPB.016—CFPB Advisory Boards and Committees” is published in its entirety below.

Dated: February 23, 2012.
Claire Stapleton,
Chief Privacy Officer.

CFPB.016

System Name:

CFPB Advisory Boards and Committees.

System Location:

Consumer Financial Protection Bureau, 1700 G Street NW., Washington DC 20552.

Categories of individuals covered by the system:

Individuals covered by this system include any individual who nominated an individual to be on an advisory board or committee to the CFPB (CFPB board or committee), served as a reference for a CFPB board or committee nominee, or was nominated to be on a CFPB board or committee, is currently serving on a CFPB board or committee, and/or has served on a CFPB board or committee and is no longer serving. Board and committee alternatives are also included in this system. Individuals covered by this system also will include any individual, including the public, who, upon invitation from the CFPB board or committee, provided advice or comments on issues or otherwise interacted with the CFPB board or committee.

Categories of records in the system:

Information maintained on individuals who are past, present or nominated members of CFPB boards or committees will include: (1) Contact information (i.e. name, business phone number, email address); (2) travel records, including dates, locations, travel orders and travel vouchers; (3) information relevant to a determination of suitability for serving on the board or committee, including but not limited to social security number (SSN), place of birth, date of birth, gender, education, registration in professional societies, work experience, record of performance, publications authored, membership on boards and committees, professional awards, declaration of desire and eligibility to serve, lobbyist registration, prior criminal or terrorist activity, and other information that can be used to determine if the individual is fit to serve on the board or committee; (4) financial disclosure information for board or committee members; (5) names of nominee's references and notes and records of conversations with those references; (6) miscellaneous correspondence. Information maintained on experts and consultants invited to provide advice or comments to a CFPB board or committee will include: (1) Contact information (i.e. name, business phone number, email address); and (2) travel records, including dates, locations, travel orders and travel vouchers. Information maintained on members of the public invited to provide advice or comment or otherwise interact with a CFPB board or committee will include contact information (i.e. name, business phone number, email address).

Authority for maintenance of the system:

Pub. L. 111-203, Title X, sections 1011, 1012, 1014, codified at 12 U.S.C. 5491, 5492, 5494.

Purpose(s):

The purpose of the system is to collect and maintain information on CFPB board or committee nominees and members and those that may interact with CFPB regarding the board or committee. The records are used for administration of the committees or boards, including the preparation of minutes and reports; listings of past, present, and recommended advisory board or committee members; lists of vacancies, acceptances, and separations; and documentation of nominations.

Routine uses of records maintained in the system, including categories of users and the purposes of such uses:

These records may be disclosed, consistent with the CFPB's rules relating to Disclosure of Records and Information, promulgated at 12 CFR 1070 et seq. to the following:

(1) Appropriate agencies, entities, and persons when: (a) The CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to (a) permit a decision as to access, amendment or correction of records to be made in consultation with or by that agency, or (b) verify the identity of an individual or the accuracy of information submitted by an individual who has requested access to or amendment or correction of records;

(3) To the Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings; and

(7) To the public in the form of names, affiliations, and other pertinent biographical information of board or committee members.

Policies and practices for storing, retrieving, accessing, retaining, and dispensing of records in the system:

Storage:

Paper and electronic records.

Retrievability:

Records are retrievable by the name of the individual, SSN, or another personal identifier.

Safeguards:

Access to electronic records is restricted to authorized personnel who have been issued non-transferrable access codes and passwords. Other records are maintained in locked file cabinets or rooms with access limited to those personnel whose official duties require access.

Retention and disposal:

The CFPB will maintain electronic and paper records indefinitely until the National Archives and Records Administration (NARA) approves the CFPB's records disposition schedule.

System manager(s) and address:

Consumer Financial Protection Bureau, Consumer Advisory Board Manager, 1500 Pennsylvania Ave NW. (Attn: 1801 L Street NW.), Washington, DC 20220.

Notification procedure:

Individuals seeking notification and access to any record contained in this system of records, or seeking to contest its content, may inquire in writing in accordance with instructions appearing in Title 12, Chapter 10 of the CFR, “Disclosure of Records and Information.” Address such requests to: Chief Privacy Officer, Bureau of Consumer Financial Protection, 1700 G Street NW., Washington, DC 20552.

Record access procedures:

See “Notification Procedures” above.

Contesting record procedures:

See “Notification Procedures” above.

Record source categories:

Information in this system is obtained directly from the individual who is the subject of these records.

Exemptions claimed for the system:

None.

[FR Doc. 2012-4697 Filed 2-27-12; 8:45 am]

BILLING CODE 4810-AM-P